DEPARTMENT OF HEALTH AND HUMAN SERVICES

Centers for Disease Control and Prevention

[30Day-09-08BL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Multi-site HIV Testing in Community Mental Health Settings Serving African Americans—New—National Center for HIV, Viral Hepatitis, STD and TB Prevention (NCHHSTP), Centers for Disease Control and Prevention (CDC).

Background and Brief Description

People with severe mental illness, including those with substance use disorders, are at increased risk of infection with human immunodeficiency virus (HIV) when compared with the general population. However, not enough is known about the risk behaviors, willingness to be tested for HIV, and prevalence of HIV among persons with severe mental illness. In addition, the interrelations among diagnosis of HIV, compliance with medical care, subsequent risk behaviors, and the course of mental illness have not been well-described. Mental health clinics are an important setting for testing and promoting prevention efforts against the transmission of HIV.

The objectives of this project are to (1) demonstrate improved access to HIV testing and linkage to care in participating mental health care settings and (2) describe the relationship between mental illness, HIV risk behaviors, and access to testing and services, in order to inform the development of optimal prevention interventions for persons with severe mental illness. Staff at selected implementation sites will offer testing for HIV to clients and administer a brief survey to assess risk behaviors, previous access to similar testing services, and mental health symptoms. This project will collect data from clients using brief surveys administered on a voluntary basis. Collection of data will provide information on client demographics; current behaviors that may facilitate HIV transmission, including sexual and drug-use behaviors; current psychiatric symptoms, determined using brief rating scales; access and barriers to HIV testing, prevention, and treatment services; and adherence to psychiatric and medical treatment regimens. CDC is requesting approval for a 2-year clearance for data collection. Data will be collected in 6 sites which provide mental health services.

The goal will be to approach 716 persons annually for participation in the study and interview a total of 600 persons. Based on the University of Pennsylvania's prior experience working in mental health settings, it is estimated that of the 716 approached for participation in the study, the response rate will be approximately 90%. Of the 644 persons approached who agree to be surveyed, it is estimated that 95% of persons will meet the eligibility criteria and 98% will be able to provide informed consent, as determined by the consent comprehension test. Therefore, the goal will be to interview a sample of 600 persons annually for two years; 300 in each of the two project areas of Baltimore and Philadelphia. The structured interview will take approximately 20 minutes to complete. Participation is voluntary. Data collection will provide important insights into the relationship between psychiatric illness and risk behaviors for HIV.

There is no cost to the respondents other than their time. The total annualized burden hours are 313.

Estimated Annualized Burden Hours
Type of respondent | Form name | Number of respondents | Number of responses per respondent | Average burden per response (in hours)
Approached individual | Eligibility Screener | 644 | 1 | 1/60
Eligible participant | Consent Questionnaire | 612 | 1 | 10/60
Consented participant | Core Questionnaire | 600 | 1 | 20/60

Dated: May 5, 2009.
Marilyn S. Radke,
Acting Reports Clearance Officer, Centers for Disease Control and Prevention.

[FR Doc. E9-10938 Filed 5-8-09; 8:45 am]

BILLING CODE 4163-18-P